DEPARTMENT OF AGRICULTURE

Submission for OMB Review; Comment Request

September 19, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by October 23, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Assessment of States' Use of Computer Matching Protocols in SNAP.

OMB Control Number: 0584-NEW.

Summary of Collection: This study is authorized under Section 3 of the Improper Payments Information Act 2010 (31 U.S.C. 3301) Supplemental Nutrition Assistance Program: Disqualified Recipient Reporting and Computer Matching Requirements). State agencies are required to check for disqualified recipients in the Electronic Disqualified Recipient System, validate against a list of incarcerated people using the Social Security Administration's Prisoner Verification System, verify applicant employment data through the National Directory of New Hires and confirm an individual is not in the Social Security Administration's Death Master File. Additional program integrity tools and methods vary by State and can vary within States, particularly those that are decentralized and administer SNAP at the county level. Local offices may also conduct matches that vary from those used at the county or State level.

Need and Use of the Information: This study will help FNS update the nationwide inventory of State SNAP data-matching and improve SNAP computer-matching efforts across the nation to maximize efficiencies and minimize fraud and waste. State agencies administering SNAP use data matching to verify information submitted at the application and recertification stages of the application process and to monitor changes in benefit recipients' household circumstances. In order for USDA to make informed decisions, it is important to gather current information about how and to what extent SNAP agencies conduct computer data matching and systematically use that information to improve program integrity.

Description of Respondents: State, Local and Tribal Agencies.

Number of Respondents: 372.

Frequency of Responses: Reporting: Annually.

Total Burden Hours: 196.

Food and Nutrition Service

Title: Understanding the Anti-Fraud Measures of Large Supplemental Nutrition Assistance Program (SNAP) Retailers.

OMB Control Number: 0584-NEW.

Summary of Collection: This study is authorized under the Food and Nutrition Act of 2008 through the Agricultural Act of 2014 (Pub. L. 113-79). The United States Department of Agriculture (USDA) has the authority to “undertake research that will help improve the administration and effectiveness of the supplemental nutrition assistance program in delivering nutrition-related benefits.” This is a new collection for the purpose of learning about the types of Supplemental Nutrition Assistance Program (SNAP) related fraud activity observed by large retailers and the methods they use to prevent fraud and minimize their losses.

Need and Use of the Information: This study will help FNS learn more about the types of SNAP fraud that occur in large retailer settings; document retailer practices to detect, deter, and deal with fraud (collectively known as loss prevention or loss prevention practices); and determine which practices could provide information that would help FNS in detecting and preventing SNAP fraud.

Description of Respondents: Businesses-for-and-not-for-profit.

Number of Respondents: 2,045.

Frequency of Responses: Reporting: Annually.

Total Burden Hours: 2,851.40.

Ruth Brown,
Departmental Information Collection Clearance Officer.

[FR Doc. 2017-20206 Filed 9-21-17; 8:45 am]

BILLING CODE 3410-30-P